DEPARTMENT OF ENERGY

Federal Energy Regulatory Commission

Combined Notice of Filings #1

Take notice that the Commission received the following electric rate filings:

Docket Numbers: ER10-2290-001.

Applicants: Avista Corporation.

Description: Notice of Non-Material Change in Status of Avista Corporation.

Filed Date: 10/9/12.

Accession Number: 20121009-5275.

Comments Due: 5 p.m. ET 10/30/12.

Docket Numbers: ER10-2405-002; ER10-2407-002; ER10-2425-002; ER10-2424-002.

Applicants: High Prairie Wind Farm II, LLC, Pioneer Prairie Wind Farm I, LLC, Rail Splitter Wind Farm, LLC, Lost Lakes Wind Farm LLC.

Description: Supplement to Updated Market Power Analysis for the Central Region of High Prairie Wind Farm II LLC, et al.

Filed Date: 10/9/12.

Accession Number: 20121009-5179.

Comments Due: 5 p.m. ET 10/30/12.

Docket Numbers: ER10-2602-001.

Applicants: NewPage Energy Services, LLC.

Description: NewPage Energy Services, LLC Market-Based Rate Tariff to be effective 10/6/2012.

Filed Date: 10/5/12.

Accession Number: 20121005-5188.

Comments Due: 5 p.m. ET 10/26/12.

Docket Numbers: ER10-2994-006; ER12-2075-001; ER12-2076-001; ER12-2077-001; ER12-2078-001; ER12-2081-001; ER12-2083-001; ER12-2084-001; ER12-2086-001; ER12-2108-001; ER12-2097-001; ER12-2101-001; ER12-2102-001; ER12-2109-001; ER12-2106-001; ER12-2107-001.

Applicants: MinnDakota Wind LLC, Northern Iowa Windpower II LLC, Flying Cloud Power Partners, LLC, Moraine Wind LLC, Trimont Wind I LLC, Barton Windpower LLC, Elm Creek Wind, LLC, Farmers City Wind, LLC, Buffalo Ridge I LLC, Moraine Wind II LLC, Buffalo Ridge II LLC, Elm Creek Wind II LLC, Atlantic Renewable Projects II LLC, New Harvest Wind Project LLC, Rugby Wind LLC, Iberdrola Renewables, LLC.

Description: IRL MBR Sellers Supplement to Central Triennial.

Filed Date: 10/5/12.

Accession Number: 20121005-5055.

Comments Due: 5 p.m. ET 10/26/12.

Docket Numbers: ER11-3736-001.

Applicants: Pocahontas Prairie Wind, LLC.

Description: Supplement to Updated Market Power Analysis for the Central Region of Pocahontas Prairie Wind, LLC.

Filed Date: 10/5/12.

Accession Number: 20121005-5114.

Comments Due: 5 p.m. ET 10/26/12.

Docket Numbers: ER12-2461-002.

Applicants: NorthWestern Corporation.

Description: SA 277—Ravalli Coop—Woodside Interconnect Amended to be effective 6/6/2012.

Filed Date: 10/5/12.

Accession Number: 20121005-5208.

Comments Due: 5 p.m. ET 10/26/12.

Docket Numbers: ER12-2642-001.

Applicants: North Eastern States, Inc.

Description: Baseline Amendment Filing to be effective 10/8/2012.

Filed Date: 10/9/12.

Accession Number: 20121009-5056.

Comments Due: 5 p.m. ET 10/30/12.

Docket Numbers: ER13-37-000.

Applicants: Midwest Independent Transmission System Operator, Inc.

Description: 10-5-12 Schedule 43 to be effective 6/15/2012.

Filed Date: 10/5/12.

Accession Number: 20121005-5197.

Comments Due: 5 p.m. ET 10/26/12.

Docket Numbers: ER13-38-000.

Applicants: Midwest Independent Transmission System Operator, Inc.

Description: SA 6500 Esanaba-MISO SSR to be effective 6/15/2012.

Filed Date: 10/5/12.

Accession Number: 20121005-5198.

Comments Due: 5 p.m. ET 10/26/12.

Docket Numbers: ER13-39-000.

Applicants: Wolverine Power Supply Cooperative, Inc.

Description: Normal filing section 15 to be effective 10/5/2012.

Filed Date: 10/5/12.

Accession Number: 20121005-5210.

Comments Due: 5 p.m. ET 10/26/12.

Docket Numbers: ER13-40-000.

Applicants: California Independent System Operator Corporation.

Description: 2012-10-05 Data and Information Release Phase 3 Amendment Filing to be effective 12/11/2012.

Filed Date: 10/5/12.

Accession Number: 20121005-5228.

Comments Due: 5 p.m. ET 10/26/12.

Docket Numbers: ER13-41-000.

Applicants: Dynasty Power Inc.

Description: Change in Status and Tariff Amendment of Dynasty Power Inc. to be effective 12/7/2012.

Filed Date: 10/9/12.

Accession Number: 20121009-5040.

Comments Due: 5 p.m. ET 10/30/12.

Docket Numbers: ER13-42-000.

Applicants: Carolina Power & Light Company.

Description: Revised Attachment H of Carolina Power and Light Company OATT to be effective 6/1/2011.

Filed Date: 10/9/12.

Accession Number: 20121009-5045.

Comments Due: 5 p.m. ET 10/30/12.

Docket Numbers: ER13-43-000.

Applicants: Florida Power Corporation.

Description: Revised Schedule 10 of Florida Power Corporation OATT to be effective 6/1/2011.

Filed Date: 10/9/12.

Accession Number: 20121009-5046.

Comments Due: 5 p.m. ET 10/30/12.

Docket Numbers: ER13-44-000.

Applicants: Carolina Power & Light Company, Florida Power Corporation, Duke Energy Carolinas, LLC.

Description: Joint OATT Rate Settlements to be effective 7/2/2012.

Filed Date: 10/9/12.

Accession Number: 20121009-5047.

Comments Due: 5 p.m. ET 10/30/12.

Docket Numbers: ER13-45-000.

Applicants: Dynamo Power LLC.

Description: Market-Based Rates Tariff to be effective 10/10/2012.

Filed Date: 10/9/12.

Accession Number: 20121009-5072.

Comments Due: 5 p.m. ET 10/30/12.

Docket Numbers: ER13-46-000.

Applicants: Pacific Gas and Electric Company.

Description: Balancing Account Update 2013 (TRBAA, RSBAA, and ECRBAA) to be effective 1/1/2013.

Filed Date: 10/9/12.

Accession Number: 20121009-5234.

Comments Due: 5 p.m. ET 10/30/12.

Docket Numbers: ER13-46-001.

Applicants: Pacific Gas and Electric Company.

Description: Amendment to Balancing Account Update 2013 (TRBAA, RSBAA, and ECRBAA) to be effective 5/1/2013.

Filed Date: 10/9/12.

Accession Number: 20121009-5237.

Comments Due: 5 p.m. ET 10/30/12.

Docket Numbers: ER13-47-000.

Applicants: Exelon New England Power Marketing, Limited.

Description: Exelon New England Power Marketing, LP, Notice of Cancellation to be effective 10/10/2012.

Filed Date: 10/9/12.

Accession Number: 20121009-5244.

Comments Due: 5 p.m. ET 10/30/12.

Docket Numbers: ER13-48-000.

Applicants: BITH Energy, Inc.

Description: Baseline new to be effective 12/1/2012.

Filed Date: 10/9/12.

Accession Number: 20121009-5254.

Comments Due: 5 p.m. ET 10/30/12.

Docket Numbers: ER13-49-000.

Applicants: Valley Electric Association, Inc.

Description: Valley Electric Association, Inc. TRR and TO Tariff to be effective 1/3/2013.

Filed Date: 10/9/12.

Accession Number: 20121009-5264.

Comments Due: 5 p.m. ET 10/30/12.

Docket Numbers: ER13-50-000.

Applicants: PacifiCorp.

Description: PGE Dalreed Substation to be effective 12/9/2012.

Filed Date: 10/9/12.

Accession Number: 20121009-5270.

Comments Due: 5 p.m. ET 10/30/12.

Docket Numbers: ER13-51-000.

Applicants: PJM Interconnection, L.L.C.

Description: PJM Interconnection, L.L.C. submits tariff filing per 35.13(a)(2)(iii): Original Service Agreement No. 3404; PJM Queue No. U4-033 to be effective 9/6/2012.

Filed Date: 10/9/12.

Accession Number: 20121009-5276.

Comments Due: 5 p.m. ET 10/30/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 9, 2012.
Nathaniel J. Davis, Sr.,
Deputy Secretary.

[FR Doc. 2012-25338 Filed 10-15-12; 8:45 am]

BILLING CODE 6717-01-P